NATIONAL SCIENCE FOUNDATION

Proposal Review Panel for Social and Economic Sciences; Notice of Meeting

In accordance with the Federal Advisory Committee Act (Pub. L. 92-463 as amended), the National Science Foundation announces the following meeting:

Name: Site visit review of the Nanoscale Science and Engineering Center (NSEC) at University of California—Santa Barbara by the Division of Social and Economic Sciences (10748).

Dates & Times: May 6, 2012; 7 p.m.-9 p.m., May 7, 2012: 8 a.m.-9:15 p.m., May 8, 2012: 8 a.m.-3:30 p.m.

Place: University of California, Santa Barbara, California.

Type Of Meeting: Part open.

Contact Person: Dr. Frederick Kronz, Program Director; Science, Technology, and Society Program; Division of Social and Economic Sciences, Room 990, National Science Foundation, 4201 Wilson Boulevard, Arlington, VA 22230, Telephone (703) 292-7283.

Purpose of Meeting: To provide advice and recommendations concerning further support of the NSEC at the University of California, Santa Barbara.

Agenda:

Sunday, May 6, 2012

7 p.m.-9 p.m. Closed—Executive Session

Monday, May 7, 2012

8 a.m.-4 p.m. Open—Review of the NSEC

4 p.m.-5:30 p.m. Closed—Executive Session

5:30 p.m.-9 p.m. Open—Poster Session; Dinner

Tuesday, May 8, 2012

8 a.m.-9 a.m. Closed—Executive session

9 a.m.-10:30 a.m. Open—Review of the NSEC

10:45 a.m.-4:15 p.m. Closed—Executive Session, Draft and Review Report

Reason for Closing: The work being reviewed may include information of a proprietary or confidential nature, including technical information; financial data, such as salaries and personal information concerning individuals associated with the MRSEC. These matters are exempt under 5 U.S.C. 552 b(c), (4) and (6) of the Government in the Sunshine Act.

Dated: April 18, 2012.
Susanne Bolton,
Committee Management Officer.

[FR Doc. 2012-9695 Filed 4-20-12; 8:45 am]

BILLING CODE 7555-01-P